ENVIRONMENTAL PROTECTION AGENCY

40 CFR Part 52

[PA 120-4110b; FRL-6961-3]

Approval and Promulgation of Air Quality Implementation Plans; Pennsylvania; Conversion of the Conditional Approval of the 15 Percent Plan and 1990 VOC Emission Inventory for the Pittsburgh-Beaver Valley Ozone Nonattainment Area to a Full Approval

AGENCY: Environmental Protection Agency (EPA).

ACTION: Proposed rule.

SUMMARY: EPA proposes to convert its conditional approval of the 15 Percent Reasonable Further Progress Plan (the 15% plan) and its associated 1990 base year volatile organic compound (VOC) emissions inventory for the Pittsburgh-Beaver Valley ozone nonattainment area to a full approval. The Commonwealth of Pennsylvania submitted revisions which satisfy the conditions imposed by EPA in its conditional approval. In the Final Rules section of this Federal Register, EPA is converting its conditional approval to a full approval as a direct final rule without prior proposal because the Agency views this as noncontroversial and anticipates no adverse comments. A more detailed description of the state submittals and EPA's evaluation are included in a Technical Support Document (TSD) prepared in support of this rulemaking action. A copy of the TSD is available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by May 3, 2001.

ADDRESSES: Written comments should be addressed to David Arnold, Chief, Air Quality Planning & Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103. They are also available at the Pennsylvania Department of Environmental Protection, Bureau of Air Quality, P.O. Box 8468, 400 Market Street, Harrisburg, Pennsylvania 17105.

FOR FURTHER INFORMATION CONTACT: Brian Rehn, (215) 814-2176, at the EPA Region III address above, or by e-mail at rehn.brian@epa.gov.

SUPPLEMENTARY INFORMATION: For further information, please see the information provided in the direct final action, with the same title, that is located in the “Rules and Regulations” section of this Federal Register publication.

Dated: March 22, 2001.
W.C. Early,
Acting Regional Administrator, Region III.

[FR Doc. 01-8022 Filed 4-2-01; 8:45 am]

BILLING CODE 6560-50-U